DEPARTMENT OF AGRICULTURE

Foreign Agricultural Service

Privacy Act of 1974: New System of Records

AGENCY: Foreign Agricultural Service, USDA.

ACTION: Notice of a new system of records.

SUMMARY: The Foreign Agricultural Service (FAS) proposes to add a system of records notice to its inventory of records systems subject to the Privacy Act of 1974 as amended (5 U.S.C. 552a). This action is necessary to meet the requirements of the Privacy Act to publish in the Federal Register notice of the existence and character of records systems maintained by the agency (5 U.S.C. 552a(e)(4)).

DATES: This action will be effective without further notice June 6, 2008 unless comments are received that would result in a contrary determination.

ADDRESSES: Send written comments to Privacy Act Officer, William Hawkins, Director, Program Management Division, USDA/FAS/OAO, Mail Stop 1065, 1400 Independence Avenue, SW., Washington, DC 20250-1065, telephone (202) 720-3241, e-mail: william hawkins@fas.usda.gov.

FOR FURTHER INFORMATION CONTACT: Lana Bennett, Director, Import and Trade Support Programs Division, USDA/FAS/OTP, Mail Stop 1021, 1400 Independence Avenue, SW., Washington, DC 20250-1021; e-mail: lana.bennett@fas.usda.gov; telephone: (202) 720-0638.

SUPPLEMENTARY INFORMATION: The Dairy Import Licensing Group maintains the web-based Dairy Accelerated Importer Retrieval and Information Exchange System (DAIRIES) to administer the Dairy Import Licensing Program. Importers can apply for, receive and monitor their dairy import licenses through DAIRIES. Importers must have a U.S. Customs and Border Protection (Customs) importer number, which is either an employer identification number or a social security number, in order to apply for a license. Importers must meet required annual minimum import amounts in order to be eligible to apply for a license. The Dairy Import Licensing Group must verify if the importer's eligible, which can only be done by accessing the importer's Customs record using their Customs importer number. A small percentage of the importers that apply under the program continue to use their social security number as their Customs importer number.

USDA/FAS-8

SYSTEM NAME:

Dairy Accelerated Importer Retrieval and Information Exchange System (DAIRIES).

SYSTEM LOCATION:

Electronic records are located at Foreign Agricultural Service, United States Department of Agriculture, 1400 Independence Avenue, SW., Washington, DC 20250.

CATEGORIES OF INDIVIDUALS COVERED BY THE SYSTEM:

Importers that are self-proprietors and maintain a valid Customs importer number.

CATEGORIES OF RECORDS IN THE SYSTEM:

The data in the system for individuals include their name, address, telephone number, and a social security number or employer identification number as the Customs importer number.

AUTHORITY FOR MAINTENANCE OF THE SYSTEM:

The import licensing program is authorized by 7 CFR part 6, 19 U.S.C. 1202, 3513 and 3601, and 31 U.S.C. 9701. The collection of the social security numbers by Customs is authorized by 19 CFR 24.5.

PURPOSE:

The Dairy Import Licensing Group will maintain the information in DAIRIES to verify the eligibility of persons applying for a dairy import license by accessing the importer Customs record using the Customs importer number.

STORAGE:

Records are stored in paper and electronic format.

RETRIEVABILITY:

Records are retrieved by a unique control number, assigned by the Dairy Import Licensing Group.

SAFEGUARDS:

All records containing personal information are maintained in secured file cabinets or in restricted areas, in which access is limited to authorized personnel. Access to computerized data is password-protected and under the responsibility of the system manager and subordinates. The database administrator has the ability to review audit trails, thereby permitting regular ad hoc monitoring of computer usage.

RETENTION AND DISPOSAL:

Records are maintained for a period of 5 years, as required by 7 CFR part 6. The records are then destroyed in accordance with USDA procedures.

SYSTEM MANAGER AND ADDRESS:

Brenda Lawson, Chief, Application Development Branch, USDA/FAS/OAO/ITD, Mail Stop 1064, 1400 Independence Avenue, SW., Washington, DC 20250-1064.

NOTIFICATION PROCEDURE:

Individuals seeking to determine whether this system of records contains information about themselves should address written inquiries to the Privacy Act Officer, William Hawkins, Director, Program Management Division, USDA/FAS/OAO, Mail Stop 1065, 1400 Independence Avenue, SW., Washington, DC 20250-1065. Individuals must identify DAIRIES in their inquiries.

RECORDS ACCESS PROCEDURES:

Individuals who wish to gain access to or amend their own records should contact the Dairy Import Licensing Group, Mail Stop 1021, 1400 Independence Avenue, SW., Washington, DC 20250-1021.

RECORD SOURCE CATEGORIES:

These records contain information obtained from the individual who is the subject of these records.

EXEMPTION CLAIMED FOR THE SYSTEM:

None.

Date: April 25, 2008.
Michael W. Yost,
Administrator, Foreign Agricultural Service.

[FR Doc. E8-10006 Filed 5-6-08; 8:45 am]

BILLING CODE 3410-10-M